DEPARTMENT OF TRANSPORTATION

Federal Aviation Administration

14 CFR Part 39

[Docket No. FAA-2018-0777; Product Identifier 2018-NE-28-AD; Amendment 39-19366; AD 2018-17-12]

RIN 2120-AA64

Airworthiness Directives; General Electric Company Turbofan Engines

AGENCY: Federal Aviation Administration (FAA), DOT.

ACTION: Final rule; request for comments.

SUMMARY: We are adopting a new airworthiness directive (AD) for all General Electric Company (GE) GE90-76B, GE90-77B, GE90-85B, GE90-90B, and GE90-94B turbofan engines with full authority digital engine control (FADEC) software, version 9.3.2.4 or earlier, installed. This AD requires upgrading the FADEC software to a software version eligible for installation. This AD was prompted by an ice-crystal icing (ICI) event that caused damage to both engines, a single engine stall, and subsequent engine shutdown. We are issuing this AD to address the unsafe condition on these products.

DATES: This AD is effective September 24, 2018.

We must receive comments on this AD by October 22, 2018.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations,M-30, West Building Ground Floor, Room W12-140, 1200 New Jersey Avenue SE, Washington, DC 20590.

• Hand Delivery: U.S. Department of Transportation, Docket Operations,M-30, West Building Ground Floor, Room W12-140, 1200 New Jersey Avenue SE, Washington, DC 20590, between 9 a.m. and 5 p.m., Monday through Friday, except Federal holidays.

For service information identified in this final rule, contact General Electric Company, GE Aviation, Room 285, 1 Neumann Way, Cincinnati, OH 45215; phone: 513-552-3272; email: aviation.fleetsupport@ge.com. You may view this service information at the FAA, Engine and Propeller Standards Branch, 1200 District Avenue, Burlington, MA 01803. For information on the availability of this material at the FAA, call 781-238-7759. It is also available on the internet at http://www.regulations.gov by searching for and locating Docket No. FAA-2018-0777.

Examining the AD Docket

You may examine the AD docket on the internet at http://www.regulations.gov by searching for and locating Docket No. FAA-2018-0777; or in person at Docket Operations between 9 a.m. and 5 p.m., Monday through Friday, except Federal holidays. The AD docket contains this final rule, the regulatory evaluation, any comments received, and other information. The street address for the Docket Operations (phone: 800-647-5527) is listed above. Comments will be available in the AD docket shortly after receipt.

FOR FURTHER INFORMATION CONTACT: John Frost, Aerospace Engineer, ECO Branch, FAA, 1200 District Avenue, Burlington, MA 01803; phone: 781-238-7756; fax: 781-238-7199; email: john.frost@faa.gov.

SUPPLEMENTARY INFORMATION:

Discussion

We received a report of a commanded in-flight shutdown and an air turn back shortly after takeoff. After further investigation, the operator found high-pressure compressor (HPC) damage, which was the result of an earlier ICI event. After the ICI event and subsequent progressive HPC damage, engine performance decreased and an engine stall occurred. As a result, GE improved the FADEC software to provide ICI event detection and to provide an alternate variable bypass valve (VBV) schedule that opens the VBV doors to extract ice crystals from the core flowpath and reduce accretion when ICI is detected. This condition, if not addressed, could result in failure of the HPC, failure of one or more engines, loss of thrust control, and loss of the airplane. We are issuing this AD to address the unsafe condition on these products.

Related Service Information

We reviewed GE GE90 Service Bulletin (SB) 73-0146, dated May 2, 2018. The SB introduces new FADEC software and describes procedures for upgrading the FADEC software.

FAA's Determination

We are issuing this AD because we evaluated all the relevant information and determined the unsafe condition described previously is likely to exist or develop in other products of the same type design.

AD Requirements

This AD requires upgrading the FADEC software to a software version eligible for installation.

Differences Between the AD and the Service Information

GE GE90 SB 73-0146, dated May 2, 2018, recommends that you load the new FADEC software as soon as possible, but no later than six months after the original issue date of the SB. This AD requires compliance within 90 days after the effective date of this AD. We expect this difference to be minimal because the GE SB was issued earlier than this AD.

FAA's Justification and Determination of the Effective Date

An unsafe condition exists that requires the immediate adoption of this AD without providing an opportunity for public comments prior to adoption. The FAA has found that the risk to the flying public justifies waiving notice and comment prior to adoption of this rule because engine failure due to an ICI event is more likely to occur during the current convective weather season and such failure could result in failure of one or more engines and loss of the airplane. Because of this, the compliance time for the required action is shorter than the time necessary for the public to comment and for us to publish the final rule to ensure the unsafe condition is fixed during the convective weather season. Therefore, we find good cause that notice and opportunity for prior public comment are impracticable. In addition, for the reason stated above, we find that good cause exists for making this amendment effective in less than 30 days.

Comments Invited

This AD is a final rule that involves requirements affecting flight safety and was not preceded by notice and an opportunity for public comment. However, we invite you to send any written data, views, or arguments about this final rule. Send your comments to an address listed under the ADDRESSES section. Include the docket number FAA-2018-0777 and Product Identifier 2018-NE-28-AD at the beginning of your comments. We specifically invite comments on the overall regulatory, economic, environmental, and energy aspects of this final rule. We will consider all comments received by the closing date and may amend this final rule because of those comments.

We will post all comments we receive, without change, to http://www.regulations.gov, including any personal information you provide. We will also post a report summarizing each substantive verbal contact we receive about this final rule.

Costs of Compliance

We estimate that this AD affects 57 engines installed on airplanes of U.S. registry.

We estimate the following costs to comply with this AD:

Estimated Costs
Action | Labor cost | Parts cost | Cost per product | Cost on U.S. operators
Upgrade the FADEC software | 1 work-hour × $85 per hour = $85 | $0 | $85 | $4,845

Authority for This Rulemaking

Title 49 of the United States Code specifies the FAA's authority to issue rules on aviation safety. Subtitle I, section 106, describes the authority of the FAA Administrator. “Subtitle VII: Aviation Programs” describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to engines, propellers, and associated appliances to the Manager, Engine and Propeller Standards Branch, Policy and Innovation Division.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2018-17-12 General Electric Company: Amendment 39-19366; Docket No. FAA-2018-0777; Product Identifier 2018-NE-28-AD.

(a) Effective Date

This AD is effective September 24, 2018.

(b) Affected ADs

None.

(c) Applicability

This AD applies to all GE GE90-76B, GE90-77B, GE90-85B, GE90-90B, and GE90-94B turbofan engines with full authority digital engine control (FADEC) software, version 9.3.2.4 or earlier, installed.

(d) Subject

Joint Aircraft System Component (JASC) Code 7230, Turbine Engine Compressor Section.

(e) Unsafe Condition

This AD was prompted by an ice-crystal icing event that caused damage to both engines, a single engine stall, and subsequent engine shutdown. We are issuing this AD to prevent failure of the high-pressure compressor (HPC). The unsafe condition, if not addressed, could result in failure of the HPC, failure of one or more engines, loss of thrust control, and loss of the airplane.

(f) Compliance

Comply with this AD within the compliance times specified, unless already done.

(g) Required Actions

(1) Within 90 days after the effective date of this AD, remove FADEC software, version 9.3.2.4 or earlier, from the engine.

(2) Install a FADEC software version eligible for installation.

(h) Installation Prohibition

Within 90 days after the effective date of this AD, do not operate any engine with FADEC software, version 9.3.2.4 or earlier, installed.

(i) Alternative Methods of Compliance (AMOCs)

(1) The Manager, ECO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (j) of this AD. You may email your request to: ANE-AD-AMOC@faa.gov.

(2) Before using any approved AMOC, notify your appropriate principal inspector, or lacking a principal inspector, the manager of the local flight standards district office/certificate holding district office.

(j) Related Information

For more information about this AD, contact John Frost, Aerospace Engineer, ECO Branch, FAA, 1200 District Avenue, Burlington, MA, 01803; phone: 781-238-7756; fax: 781-238-7199; email: john.frost@faa.gov.

(k) Material Incorporated by Reference

None.

Issued in Burlington, Massachusetts, on August 30, 2018.
Karen M. Grant,
Acting Manager, Engine and Propeller Standards Branch, Aircraft Certification Service.

[FR Doc. 2018-19282 Filed 9-6-18; 8:45 am]

BILLING CODE 4910-13-P